DEPARTMENT OF ENERGY

Federal Energy Regulatory Commission

[Docket No. EL11-42-000]

Astoria Generating Company, L.P., NRG Power Marketing LLC, Arthur Kill Power LLC, Astoria Gas Turbine Power LLC, Dunkirk Power LLC, Huntley Power LLC, Oswego Harbor Power LLC, TC Ravenswood, LLC, v. New York Independent System Operator, Inc.

Notice of Revised Comment Dates

On June 3, 2011, Astoria Generating Company, NRG Power Marketing LLC, Arthur Kill Power LLC, Astoria Gas Turbine Power LLC, Dunkirk Power LLC, Huntley Power LLC, Oswego Harbor Power LLC and TC Ravenswood, LLC (Complainants) filed a complaint against the New York Independent System Operator (NYISO) in the captioned docket (Complaint). Notice of the Complaint was issued June 7, 2011, providing for a Comment Date of June 23, 2011, for that filing. On June 15, 2011, Complainants filed an amendment to the Complaint and a request for a shortened comment period to and including June 23, 2011, in the captioned docket (Amended Complaint). On June 16, 2011, NYISO filed a preliminary answer to the Complaint proposing June 30, 2011, as the Comment Date applicable to both the Complaint and the Amended Complaint, stating that Counsel for the Complainants supports the June 30, 2011 date. NYISO also states that Counsel for Consolidated Edison Company of New York, Inc. has no objection to the Comment Date of June 30, 2011 for both filings. Notice of the Amended Complaint was issued June 17, 2011, providing for a Comment Date of July 5, 2011, for that filing.

Upon consideration of NYISO's request for a revised Comment Date in its June 16, 2011 preliminary answer, notice is hereby given that the Comment Dates applicable to the Complaint and the Amended Complaint are revised to June 30, 2011.

Any person desiring to intervene or to protest the Complaint and Amended Complaint filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the Comment Date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

These filings are accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on June 30, 2011.

Dated: June 17, 2011.
Nathaniel J. Davis, Sr.,
Deputy Secretary.

[FR Doc. 2011-15715 Filed 6-22-11; 8:45 am]

BILLING CODE 6717-01-P